ENVIRONMENTAL PROTECTION AGENCY

[EPA-HQ-OW-2006-0771, FRL-8692-2]

Agency Information Collection Activities; Submission to OMB for Review and Approval; Comment Request; Coalbed Methane Extraction Sector Survey (New), EPA ICR Number 2291.01, OMB Control No. 2040-NEW

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before August 14, 2008.

ADDRESSES: Submit your comments, referencing Docket ID No. EPA-HQ-OW-2006-0771 to (1) EPA online using http://www.regulations.gov (our preferred method), by e-mail to OW-Docket@epa.gov, or by mail to: EPA Docket Center, Environmental Protection Agency, Water Docket, Mail Code 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Mr. Carey A. Johnston, Office of Science and Technology, Mail Code 4303T, Environmental Protection Agency, 1200 Pennsylvania Ave., NW., Washington, DC 20460; telephone number: (202) 566-1014; fax number: (202) 566-1053; e-mail address: johnston.carey@epa.gov.

SUPPLEMENTARY INFORMATION: EPA has submitted the following ICR to OMB for review and approval according to the procedures prescribed in 5 CFR 1320.12. On January 25, 2008 (73 FR 4556), EPA sought comments on this ICR pursuant to 5 CFR 1320.8(d). EPA received comments during the comment period from 35 individuals or organizations including industry representatives; Federal, State, and Tribal representatives; public interest groups and landowners; and water treatment experts. These comments are summarized in this notice and addressed in the supporting statement for this ICR (see DCN 05763). Any additional comments on this ICR should be submitted to EPA and OMB within 30 days of this notice.

EPA has established a public docket for this ICR under Docket ID No. EPA-HQ-OW-2006-0771, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Coalbed Methane Extraction Sector Questionnaire (New).

ICR numbers: EPA ICR No. 2291.01, OMB Control No. 2040-NEW.

ICR Status: This ICR is for a new information collection activity. An Agency may not conduct or sponsor, and a person is not required to respond to, a collection of information, unless it displays a currently valid OMB control number. The OMB control numbers for EPA's regulations in title 40 of the CFR are displayed either by publication in the Federal Register or by other appropriate means, such as on the related collection instrument or form, if applicable. The display of OMB control numbers in certain EPA regulations is consolidated in 40 CFR part 9.

Abstract: The Clean Water Act (CWA) directs EPA to develop regulations, called effluent guidelines, to limit the amount of pollutants that are discharged to surface waters or to sewage treatment plants. Coalbed methane (CBM) extraction activities accounted for about 9.4 percent of the total U.S. natural gas production in 2006 and are expanding in multiple basins across the United States. EPA's effluent guidelines do not currently regulate pollutant discharges from CBM extraction operations.

CBM extraction requires removal of large amounts of water from underground coal seams before CBM can be released. CBM wells have a distinctive production cycle characterized by an early stage when large amounts of water are produced to reduce reservoir pressure which in turn encourages release of gas; a stable stage when quantities of produced gas increase as the quantities of produced water decrease; and a late stage when the amount of gas produced declines and water production remains low. Pollutants often found in these wastewaters include chloride, sodium, sulfate, bicarbonate, fluoride, iron, barium, magnesium, ammonia, and arsenic.

EPA identified the CBM sector as a candidate for a detailed study in the final 2006 Effluent Guidelines Program Plan (71 FR 76656; December 21, 2006) and also identified that it would develop an industry questionnaire to support this detailed study and would seek OMB approval under the Paperwork Reduction Act (PRA). EPA is conducting this review to determine if it would be appropriate to conduct a rulemaking to revise the effluent guidelines for the Oil and Gas Extraction Point Source Category (40 CFR part 435) to control pollutants discharged in CBM produced water. EPA again announced it will conduct an ICR in the preliminary 2008 Plan (72 FR 61343; October 30, 2007) and sought comments on this ICR pursuant to 5 CFR 1320.8(d) (73 FR 4556; January 25, 2008). For each industrial sector, EPA's planning process considers four factors: pollutants discharged, current and potential pollution prevention and control technology options, growth and economic affordability, and implementation and efficiency considerations of revising existing effluent guidelines or publishing new effluent guidelines. EPA will use this ICR to collect technical and economic information from a wide range of CBM operations to address these factors. EPA plans to collect information on geographical and geologic differences in the characteristics of CBM produced waters, environmental data, current regulatory controls, and availability and affordability of treatment technology options. See final 2006 Plan (71 FR 76666). Response to the questionnaire will be mandatory for recipients. EPA will administer the questionnaire using its authority under Section 308 of the CWA, 33 U.S.C. 1318.

EPA received 35 public comments from industry, landowners, public interest groups, water treatment experts, and Federal agencies in response to its notice on January 25, 2008 (73 FR 4556). Industry commenters noted that CBM well circumstances (e.g., produced water quantity and quality, available and applicable produced waste management and control technologies, etc.) are diverse and complex geographically and geologically, and that the initial questionnaire did not address this complexity and variation. These commenters also expressed concerns about the survey burden and about how the Agency would use the data. Several industry comments also indicated that there is a general lack of availability and documentation of common technologies that can be used for CBM produced water. Finally, industry representatives asserted that EPA does not need detailed financial data and technical information requested in the draft questionnaire to determine whether regulations should be developed. Federal agencies requested that EPA develop different groupings for survey respondents to ensure that the survey adequately captures the heterogeneity of different CBM produced waters and industry practices. They also suggested additional questions to the survey to better inform EPA's decision-making (e.g., specifically collect data to assess the amount of open water in acres that could attract migratory aquatic birds). Public interest groups indicated that produced water discharges from CBM production have had both quality and quantity impacts on surface water. They also requested that EPA include questions in the survey to assess the costs to communities of not limiting these discharges. EPA has a summary of the ICR modifications and comment responses in the supporting statement to address these comments (see DCN 05763).

Burden Statement: The annual public reporting and recordkeeping burden for this collection of information is estimated to average 5 hours for the screener survey response and approximately 80 hours for the detailed survey response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Companies operating wells that produce coalbed methane.

Estimated Number of Respondents: 484.

Frequency of Response: Once For Screener Survey, Once for Respondents Selected for Detailed Survey.

Estimated Total Annual Hour Burden: 40,017.

Estimated Total Annual Cost: $2,140,796, includes $28,415 annualized capital and O&M costs.

Changes in the Estimates: There is an increase of 40,017 hours in the total estimated burden currently identified in the OMB Inventory of Approved ICR Burdens. This increase is due to the fact that this is a new ICR which identifies this industry for a detailed study for EPA's effluent guidelines planning program.

Dated: July 9, 2008.
Sara Hisel-McCoy,
Director, Collection Strategies Division.

[FR Doc. E8-16117 Filed 7-14-08; 8:45 am]

BILLING CODE 6560-50-P